ENVIRONMENTAL PROTECTION AGENCY

[EPA-HQ-OECA-2012-0528; FRL-9940-67-OEI]

Information Collection Request Submitted to OMB for Review and Approval; Comment Request; NSPS for Synthetic Fiber Production Facilities (Renewal)

AGENCY: Environmental Protection Agency (EPA).

ACTION: Notice.

SUMMARY: The Environmental Protection Agency has submitted an information collection request (ICR), “NSPS for Synthetic Fiber Production Facilities (40 CFR part 60, subpart HHH) (Renewal)” (EPA ICR No. 1156.13, OMB Control No. 2060-0059) to the Office of Management and Budget (OMB) for review and approval in accordance with the Paperwork Reduction Act (44 U.S.C. 3501 et seq.). This is a proposed extension of the ICR, which is currently approved through December 31, 2015. Public comments were previously requested via the Federal Register (80 FR 32116) on June 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 28, 2016.

ADDRESSES: Submit your comments, referencing Docket ID Number EPA-HQ-OECA-2012-0528, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Owners and operators of synthetic fiber production facilities are required to comply with reporting and record keeping requirements for the general provisions of 40 CFR part 60, subpart A, as well as the applicable specific standards found at 40 CFR part 60, subpart HHH. This includes submitting initial notifications, performance tests and periodic reports and results, and maintaining records of the occurrence and duration of any startup, shutdown, or malfunction in the operation of an affected facility, or any period during which the monitoring system is inoperative. These reports are used by EPA to determine compliance with the standards.

Form Numbers: None.

Respondents/affected entities: Synthetic fiber production plants with a solvent-spun, synthetic fiber process that produce more than 500 megagrams (Mgs) of fiber per year.

Respondent's obligation to respond: Mandatory (40 CFR part 60, subpart HHH).

Estimated number of respondents: 22 (total).

Frequency of response: Initially, semiannually, and quarterly.

Total estimated burden: 1,880 hours (per year). Burden is defined at 5 CFR 1320.3(b).

Total estimated cost: $335,000 (per year), includes $165,000 annualized capital or operation & maintenance costs.

Changes in the Estimates: There is no significant change in burden in this ICR compared to the previous ICR. This is due to two considerations: (1) The regulations have not changed over the past three years and are not anticipated to change over the next three years; and (2) the growth rate for the industry is very low, negative or non-existent, so there is no significant change in the overall burden. However, there is a slight increase in labor hours due to adding the assumption that all respondents must spend one hour annually reviewing the regulatory requirements. There is also an increase in labor costs for as a result of using updated labor rates from the Bureau of Labor Statistics to calculate burden costs.

Courtney Kerwin,
Acting Director, Collection Strategies Division.

[FR Doc. 2015-32682 Filed 12-28-15; 8:45 am]

BILLING CODE 6560-50-P